DEPARTMENT OF HEALTH AND HUMAN SERVICES

Office of Inspector General

Solicitation of Information and Recommendations for Developing a Compliance Risk Guidance for the Ambulance Industry

AGENCY: Office of Inspector General (OIG), HHS.

ACTION: Notice.

SUMMARY: This Federal Register notice seeks the input and recommendations of interested parties as the OIG develops a Compliance Risk Guidance (CRG) for ambulance service providers, especially those serving Medicare, Medicaid and other Federal health care program beneficiaries. The ambulance industry has experienced a number of instances of ambulance provider and supplier fraud and abuse and has expressed interest in increasing the awareness of the industry to assist in protecting against such conduct. In response to the industry's concerns, the OIG has, to date, written seven Advisory Opinions on a variety of ambulance-related issues ¹ and has published a proposed rule concerning a safe harbor for ambulance restocking.²

¹ See Advisory Opinions Nos. 97-6, 98-3, 98-7, 98-13, 99-1, 99-2 and 99-5. The Advisory Opinions can be found on the OIG web site at http://www.hhs.gov/oig.

² See 65 FR 32060; May 22, 2000.

In an effort to provide further guidance, the OIG is soliciting comments, recommendations and other suggestions from concerned parties and organizations on how best to develop an ambulance CRG to reduce the potential for fraud and abuse. The OIG expects that the CRG will outline the most common and prevalent fraud and abuse risk areas for the ambulance industry. In addition, the CRG will provide guidance on how to: (1) Address these risk areas; (2) prevent the occurrence of instances of fraud and abuse; and (3) develop corrective actions when those risks or instances of fraud and abuse are identified.

The OIG expects that the risk areas identified in the CRG will not be all-inclusive. Ambulance providers and suppliers will remain responsible for identifying those risk areas particular to their specific operations.

DATES: To assure consideration, comments must be delivered to the address provided below by no later than 5 p.m. on October 16, 2000.

ADDRESSES: Please mail or deliver your written comments, recommendations and suggestions to the following address: Department of Health and Human Services, Office of Inspector General, Attention: OIG-1-CRG, Room 5527 A, Cohen Building, 330 Independence Avenue, S.W., Washington, D.C. 20201.

We do not accept comments by facsimile (FAX) transmission. In commenting, please refer to the file code OIG-1-CRG. Comments received timely will be available for public inspection as they are received, generally beginning approximately 3 weeks after publication of a document, in Room 5541 of the Office of Inspector General at 330 Independence Avenue, S.W., Washington, D.C. 20201 on Monday through Friday of each week from 8 A.M. to 4:30 P.M.

FOR FURTHER INFORMATION CONTACT: Sonya Castro, Office of Counsel to the Inspector General, (202) 619-2078.

SUPPLEMENTARY INFORMATION: The contents of this CRG will differ from the previous OIG compliance program guidances.³ Although the CRG will refer to the seven elements of establishing an effective compliance program, set forth in the previous compliance program guidances,⁴ the CRG will concentrate on specific identified risk areas and related compliance program best practices.

³ The OIG has issued compliance program guidance for the following eight industry sectors: hospitals, clinical laboratories, home health agencies, durable medical equipment suppliers, third-party medical billing companies, hospices, Medicare+Choice organizations offering coordinated care plans and nursing facilities. Additionally, the Individual and Small Group Physician Practice Compliance Program Guidance has been issued in draft form (June 12, 2000; 65 FR 36818). The Compliance Program Guidances can be found on the OIG web site at http://www.hhs.gov/oig in the Electronic Reading Room, or by calling the OIG Public Affairs office at (202) 619-1343.

⁴ The seven elements of an effective compliance program include: (1) The development of written policies and procedures; (2) the designation of a compliance officer and other appropriate bodies; (3) the development and implementation of effective training and education programs; (4) the development and maintenance of effective lines of communication; (5) the enforcement of standards through well-publicized disciplinary guidelines; (6) the use of audits and other evaluation techniques to monitor compliance; and (7) the development of procedures to respond to detected offenses and to initiate corrective action.

The CRG will include an additional section relating to risk areas associated with the Medical Assistance or Medicaid program requirements. The OIG intends to broadly address the Medicaid risks in light of the fact that the coverage and reimbursement rules differ among the various Medicaid programs. In order for the OIG to adequately incorporate the most prevalent Medicaid risk areas, we are requesting comments and suggestions from the various State agencies providing Medicaid services and from those ambulance providers and suppliers that furnish a significant level of services to Medicaid beneficiaries.

The OIG would also appreciate specific comments related to compliance regarding the proposed Medicare ambulance fee schedule.⁵ As appropriate, we ask that commenters please provide detailed justifications and empirical data supporting such comments.

⁵ The Health Care Financing Administration's proposed Medicare ambulance fee schedule is expected to be published in the Federal Register shortly.

Dated: August 11, 2000.
Michael F. Mangano,
Principal Deputy Inspector General.

[FR Doc. 00-20856 Filed 8-16-00; 8:45 am]

BILLING CODE 4152-01-P